ENVIRONMENTAL PROTECTION AGENCY

40 CFR Parts 52 and 81

[MA084-7214b; A-1-FRL-7143-8]

Approval and Promulgation of Air Quality Implementation Plans and Designations of Areas for Air Quality Planning Purposes; Commonwealth of Massachusetts; Carbon Monoxide Redesignation Request, Maintenance Plan, and Emissions Inventory for the Cities of Lowell, Springfield, Waltham and Worcester

AGENCY: Environmental Protection Agency (EPA).

ACTION: Proposed rule.

SUMMARY: The Environmental Protection Agency (EPA) is proposing to approve a State Implementation Plan (SIP) revision submitted by the Commonwealth of Massachusetts containing a redesignation request, maintenance plan, and emissions inventory for the carbon monoxide (CO) nonattainment areas of Lowell, Springfield, Waltham, and Worcester. Under the Clean Air Act as amended in 1990 (the CAA), designations can be revised if sufficient data is available to warrant such revisions and the redesignation request meets all of the requirements of section 107(d)(E)(3) of the CAA. EPA is proposing to approve the Massachusetts redesignation request and maintenance plan because they meet the applicable requirements and will ensure that the four cities remain in attainment. The approved maintenance plans will become a federally enforceable part of the Massachusetts SIP. In this action, EPA is also proposing to approve the Massachusetts 1996 baseline emission inventory for CO.

In the Final Rules Section of this Federal Register, EPA is approving the Massachusetts SIP submittal as a direct final rule without a prior proposal because the Agency views this as a noncontroversial submittal and anticipates no adverse comments. A detailed rationale for the approval is set forth in the direct final rule. If EPA receives no adverse comments in response to this action rule, we contemplate no further activity. If EPA receives relevant adverse comments, we will withdraw the direct final rule and we will address all public comments in a subsequent final rule based on this proposed rule. EPA will not institute a second comment period. Any parties interested in commenting on this action should do so at this time.

DATES: Written comments must be received on or before March 21, 2002.

ADDRESSES: Comments may be mailed to David Conroy, Unit Manager, Air Quality Planning, Office of Ecosystem Protection (mail code CAQ), U.S. Environmental Protection Agency, EPA New England, One Congress Street, Suite 1100, Boston, MA 02114-2023. Copies of Massachusetts' submittal and EPA's technical support document are available for public inspection during normal business hours, by appointment at the Office of Ecosystem Protection, U.S. Environmental Protection Agency, EPA New England, One Congress Street, 11th floor, Boston, MA, 02114-2023, and the Division of Air Quality Control, Department of Environmental Protection, One Winter Street, 8th Floor, Boston, MA 02108.

FOR FURTHER INFORMATION CONTACT: Jeffrey S. Butensky, Environmental Planner, Air Quality Planning Unit of the Office of Ecosystem Protection (mail code CAQ), U.S. Environmental Protection Agency, New England office, One Congress Street, Boston, MA 02114-2023, (617) 918-1665 or at butensky.jeff@epa.gov.

SUPPLEMENTARY INFORMATION: Please note that if EPA receives adverse comment on an amendment, paragraph, or section of this rule and if that provision may be severed from the remainder of the rule, EPA may adopt as final those provisions of the rule that are not the subject of an adverse comment. For additional information, see the direct final rule that is located in the Rules Section of this Federal Register.

Dated: January 29, 2002.
Robert W. Varney,
Regional Administrator, EPA New England.

[FR Doc. 02-3759 Filed 2-15-02; 8:45 am]

BILLING CODE 6560-50-P